ENVIRONMENTAL PROTECTION AGENCY

[EPA-HQ-OPPT-2005-0029; FRL-8118-9]

Sound Management of Chemicals Working Group (Canada, Mexico and U.S.); Public Meeting Including Regional Implementation of the Strategic Approach to International Chemicals Management (SAICM)

AGENCY: Environmental Protection Agency (EPA).

ACTION: Notice.

SUMMARY: This notice is to announce that EPA will be hosting a stakeholder meeting to solicit comments in preparation for the meeting of the Sound Management of Chemicals (SMOC) Working Group. The SMOC Working Group seeks to implement the SAICM in North America, facilitating the movement of chemicals and their products across borders without compromising human health or the environment. At the April SMOC Working Group meeting, the Working Group will be discussing the implementation of its Strategy to 2020 with the North American stakeholders. This public meeting will serve as an opportunity for U.S. stakeholders to share their interest in participating in the strategy drafted by the SMOC WG. EPA will be seeking comments on the areas of work proposed by the SMOC Working Group and will be inviting stakeholders to develop project proposals.

DATES: The meeting will be held on March 14, 2007 from 11 a.m. to 12:30 p.m.

Requests to participate in the meeting must be received on or before March 14, 2007.

To request accommodation of a disability, please contact the technical person listed under FOR FURTHER INFORMATON CONTACT, preferably at least 10 days prior to the meeting, to give EPA as much time as possible to process your request.

ADDRESSES: The meeting will be held at 1201 Constitution Ave., NW., Room 4225, EPA East (4th Floor), Washington, DC 20460.

Requests to participate in the meeting, identified by docket identification (ID) number EPA-HQ-OPPT-2005-0029, may be submitted to the technical person listed under FOR FURTHER INFORMATION CONTACT.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Ana Corado, Environmental Assistance Division (7408M), Office of Pollution Prevention and Toxics, Environmental Protection Agency, 1200 Pennsylvania Ave., NW., Washington, DC 20460-0001; telephone number: (202) 564-0140; e-mail address: corado.ana@epa.gov.

SUPPLEMENTARY INFORMATION:

I. General Information

A. Does this Action Apply to Me?

This action is directed to the public in general, and may be of particular interest to industry, trade associations, and non-governmental organizations that deal with and are interested in chemicals management in North America.

If you have any questions regarding the applicability of this action to a particular entity, consult the technical person listed under FOR FURTHER INFORMATION CONTACT.

B. How Can I Get Copies of this Document and Other Related Information?

1. Docket. EPA has established a docket for this action under docket ID number EPA-HQ-OPPT-2005-0029. All documents in the docket are listed in the docket's index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC PublicReading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. Background

An agenda for this public meeting will be available 5 days prior to the meeting in the docket. In addition, the docket contains the advance notification for the April meeting of the Sound Management of Chemicals (SMOC) Working Group.

The Strategy to 2020 of the SMOC Working Group, as well as other relevant documents for the SMOC Working Group meeting will be posted by the Commission for Environmental Cooperation (CEC) Secretariat at their web site: http://www.cec.org/programs_projects/pollutants_health/project/index.cfm?projectID=25&varlan=english, as they become available.

III. How Can I Request to Participate in this Meeting?

You may submit a request to participate in this meeting to the technical person listed under FOR FURTHER INFORMATION CONTACT. Do not submit any information in your request that is considered CBI. Requests to participate in the meeting, identified by docket ID number EPA-HQ-OPPT-2005-0029, must be received on or before March 14, 2007.

List of Subjects

Environmental protection, chemical management, toxic chemicals, chemical health and safety.

Dated: February 27, 2007.
Charles M. Auer,
Director, Office of Pollution Prevention and Toxics.

[FR Doc. E7-4032 Filed 3-7-07; 8:45 am]

BILLING CODE 6560-50-S